DEPARTMENT OF HOUSING AND URBAN DEVELOPMENT

2 CFR Chapter XXIV

5 CFR Chapter LXV

12 CFR Chapter XVII

24 CFR Chapters I, II, III, IV, V, VI, VIII, IX, X, XII, and Subtitles A and B

48 CFR Chapter 24

[Docket No. FR-5506-N-01]

Reducing Regulatory Burden; Retrospective Review Under E.O. 13563

AGENCY: Office of the General Counsel, HUD.

ACTION: Request for information.

SUMMARY: In accordance with Executive Order 13563, “Improving Regulation and Regulatory Review,” HUD is reviewing its existing regulations to evaluate their continued effectiveness in addressing circumstances for which the regulations were promulgated. As part of this review, HUD invites public comments to assist in the development of a plan for periodically analyzing existing significant regulations to determine whether they should be modified, streamlined, expanded, or repealed. HUD also seeks comment to identify specific current regulations that may be outdated, ineffective, or excessively burdensome. The purpose of this regulatory review is to make the Department's regulations more effective and less burdensome in achieving HUD's mission to create strong, sustainable, inclusive communities, and quality affordable homes for all.

DATES: Comment Due Date: May 2, 2011.

ADDRESSES: Interested persons are invited to submit comments regarding this notice to the Regulations Division, Office of General Counsel, Department of Housing and Urban Development, 451 7th Street, SW., Room 10276, Washington, DC 20410-0500. Communications must refer to the above docket number and title. There are three methods for submitting public comments. All submissions must refer to the above docket number and title.

1. Submission of Comments by Mail. Comments may be submitted by mail to the Regulations Division, Office of General Counsel, Department of Housing and Urban Development, 451 7th Street, SW., Room 10276, Washington, DC 20410-0001.

2. E-mail Submission of Comments: Comments may be submitted by e-mail to RegulatoryReview@hud.gov.

3. Electronic Submission of Comments. Interested persons may submit comments electronically through the Federal eRulemaking Portal at http://www.regulations.gov. HUD strongly encourages commenters to submit comments electronically. Electronic submission of comments allows the commenter maximum time to prepare and submit a comment, ensures timely receipt by HUD, and enables HUD to make them immediately available to the public. Comments submitted electronically through the http://www.regulations.gov Web site can be viewed by other commenters and interested members of the public. Commenters should follow the instructions provided on that site to submit comments electronically.

Note: To receive consideration as public comments, comments must be submitted through one of the three methods specified above. Again, all submissions must refer to the docket number and title of the rule. No Facsimile Comments. Facsimile (FAX) comments are not acceptable.

Public Inspection of Public Comments. All properly submitted comments and communications submitted to HUD will be available for public inspection and copying between 8 a.m. and 5 p.m. weekdays at the above address. Due to security measures at the HUD Headquarters building, an advance appointment to review the public comments must be scheduled by calling the Regulations Division at 202-708-3055 (this is not a toll-free number). Individuals with speech or hearing impairments may access this number via TTY by calling the Federal Information Relay Service at 800-877-8339. Copies of all comments submitted are available for inspection and downloading at http://www.regulations.gov.

FOR FURTHER INFORMATION CONTACT: Camille E. Acevedo, Associate General Counsel for Legislation and Regulations, Office of General Counsel, Department of Housing and Urban Development, 451 7th Street, SW., Room 10282, Washington, DC 20410; telephone number 202-708-1793 (this is not a toll-free number). Persons with hearing or speech impairments may access this number through TTY by calling the toll-free Federal Information Relay Service at 800-877-8339.

SUPPLEMENTARY INFORMATION:

I. Background

A. HUD's Regulatory Mission

HUD plays a significant role in the lives of families and in communities throughout America. HUD's mission is to create strong, sustainable, inclusive communities and quality affordable homes for all. Consistent with that mission, HUD has statutory responsibility for a wide variety of regulations. HUD's regulatory programs and initiatives help create suitable living environments, and help to ensure that all citizens have access to decent, safe, and sanitary housing. HUD's regulations also assist in the enforcement of the nation's fair housing laws. HUD regulations also govern the provision of housing and other essential support to a wide range of individuals and families with special needs, including homeless individuals, the elderly, and persons with disabilities. Moreover, in light of recent economic events, HUD has undertaken a variety of rulemaking initiatives to strengthen the housing market to bolster the economy and protect consumers.

B. Executive Order 13563 on Improving Regulation and Regulatory Review

On January 18, 2011, President Obama issued Executive Order 13563, “Improving Regulation and Regulatory Review.” ¹ The Executive Order requires federal agencies to seek more affordable, less intrusive ways to achieve policy goals and give careful consideration to the benefits and costs of those regulations. Agencies are directed to tailor their regulations to impose the minimal amount of burden on society to obtain regulatory objectives. The Executive Order also emphasizes the importance of meaningful public participation in the rulemaking process, and encourages agencies to increase their use of online technologies to simplify and facilitate participation for all stakeholders. Executive Order 13563 also requires agencies to coordinate, simplify, and harmonize regulations to reduce costs and promote certainty for businesses and the public.

¹ The Executive Order was subsequently published in the Federal Register on January 21, 2011, at 76 FR 3821.

The Executive Order recognizes that these principles should not only guide the federal government's approach to new regulations, but to existing ones as well. To that end, agencies are required to review existing significant regulations to determine if they are outmoded, ineffective, insufficient or excessively burdensome. Executive Order 13563 also requires that each agency develop and submit to the Office of Management and Budget's Office of Information and Regulatory Affairs a preliminary plan for periodically reviewing existing significant regulations to determine whether they should be modified, streamlined, expanded, or repealed so as to make the agency's regulatory program more effective or less burdensome in achieving regulatory objectives.

II. This Notice—HUD's Implementation of Executive Order 13563

Through this notice, HUD announces several steps that it is undertaking to comply with the regulatory review requirements of Executive Order 13563. The steps announced in this notice will help HUD to ensure that its regulations are updated and remain necessary, are properly tailored, and effectively achieve regulatory objectives without imposing unwarranted costs.

First, pursuant to the Executive Order, HUD is developing a preliminary plan for periodically analyzing existing significant regulations. Consistent with the principles articulated in the Executive Order, and HUD's commitment to public participation in the rulemaking process, HUD is beginning this process by soliciting views from the public on defined methods for identifying rules that may be obsolete, unnecessary, unjustified, excessively burdensome, or counterproductive. HUD intends for its preliminary plan to include an initial list of candidate rules for review. Accordingly, HUD also seeks suggestions for specific current regulations that may be outmoded, ineffective, or excessively burdensome, and therefore should be included on the list.

HUD has also established an e-mail inbox at RegulatoryReview@hud.gov which interested parties may use, on an ongoing basis, to identify regulations that may be in need of review. The email box may also be used for the submission of comments in response to this notice. Irrespective of how they are submitted, HUD will make all comments received in response to this notice publicly available on http://www.regulations.gov. Please see the ADDRESSES section of this notice for additional information regarding the submission of comments.

III. Issues for Public Comment

The following is the list of topics on which HUD specifically seeks comments. The topics represent a preliminary attempt to identify issues raised by HUD's effort to develop a preliminary plan for the retrospective analysis of its regulations and to identify regulations on which it should focus. With regards to specific existing regulations, HUD is particularly interested in receiving comments on regulations that have been in effect for a sufficient amount of time to warrant a fair evaluation. Comments should reference a specific regulation by citation to the Code of Federal Regulations, and provide information on the perceived problem and the rationale for any recommended solution. Commenters should focus on rule changes that will achieve a broad public impact, rather than an individual personal or corporate benefit.

This is a non-exhaustive list that is meant to assist in the formulation of comments and is not intended to limit the issues that commenters may choose to address.

1. How can HUD best obtain and consider accurate, objective information and data about the cost, burdens, and benefits of existing regulations? Are there existing sources of data available that HUD can use to evaluate the effects of its regulations over time?

2. What factors should HUD use to select and prioritize rules and reporting requirements for review?

3. Are there any specific existing HUD regulatory requirements that are ill-advised or so burdensome as to merit elimination?

4. Are there any specific existing HUD regulatory requirements that, while necessary, are ineffective and in need of streamlining or other modification to achieve their objectives? Why are these requirements ineffective—are they unnecessarily complicated, burdensome, or outdated? What changes to the regulations would increase their usefulness and meet HUD's objectives?

5. Are there any HUD regulatory requirements that have been overtaken by technological developments? Can new technologies be used to modify, streamline, or do away with these requirements?

6. Are there any existing HUD requirements that duplicate or conflict with requirements of another Federal agency? Can the requirement be modified to eliminate the conflict?

7. Are there HUD regulations that are working well and that can be expanded or used as a model for other HUD programs?

Dated: February 22, 2011.
Helen R. Kanovsky,
General Counsel.

[FR Doc. 2011-4563 Filed 3-1-11; 8:45 am]

BILLING CODE 4210-67-P